DEPARTMENT OF ENERGY

Federal Energy Regulatory Commission

Combined Notice of Filings #1

Take notice that the Commission received the following electric corporate filings:

Docket Numbers: EC21-64-000.

Applicants: Tumbleweed Solar, LLC, Tumbleweed Energy Storage, LLC.

Description: Application for Authorization Under Section 203 of the Federal Power Act of Tumbleweed Solar, LLC, et al.

Filed Date: 3/4/21.

Accession Number: 20210304-5131.

Comments Due: 5 p.m. ET 3/25/21.

Take notice that the Commission received the following exempt wholesale generator filings:

Docket Numbers: EG21-100-000.

Applicants: PGR 2020 Lessee 8, LLC.

Description: Notice of Self-Certification of Exempt Wholesale Generator Status of PGR 2020 Lessee 8, LLC.

Filed Date: 3/5/21.

Accession Number: 20210305-5113.

Comments Due: 5 p.m. ET 3/26/21.

Docket Numbers: EG21-101-000.

Applicants: Sugar Solar, LLC.

Description: Notice of Self-Certification of Exempt Wholesale Generator Status of Sugar Solar, LLC.

Filed Date: 3/5/21.

Accession Number: 20210305-5114.

Comments Due: 5 p.m. ET 3/26/21.

Take notice that the Commission received the following electric rate filings:

Docket Numbers: ER21-746-001.

Applicants: Mayflower Power & Gas LLC.

Description: Tariff Amendment: Amendment to 1 to be effective 4/1/2021.

Filed Date: 3/4/21.

Accession Number: 20210304-5168.

Comments Due: 5 p.m. ET 3/25/21.

Docket Numbers: ER21-815-001.

Applicants: Tri-State Generation and Transmission Association, Inc.

Description: Tariff Amendment: Amendment to Service Agreement No. 726 to be effective 12/30/2020.

Filed Date: 3/4/21.

Accession Number: 20210304-5178.

Comments Due: 5 p.m. ET 3/25/21.

Docket Numbers: ER21-1073-001.

Applicants: DATC SLTP, LLC.

Description: Tariff Amendment: Amendment to 2 to be effective 4/11/2021.

Filed Date: 3/5/21.

Accession Number: 20210305-5212.

Comments Due: 5 p.m. ET 3/26/21.

Docket Numbers: ER21-1075-001.

Applicants: DATC Midwest Holdings, LLC.

Description: Tariff Amendment: Amendment to 10 to be effective 4/11/2021.

Filed Date: 3/5/21.

Accession Number: 20210305-5210.

Comments Due: 5 p.m. ET 3/26/21.

Docket Numbers: ER21-1271-001.

Applicants: Georgia Power Company.

Description: Tariff Amendment: Errata to Rabun Gap Enhanced Reliability Upgrade Construction Agreement Filing to be effective 2/23/2021.

Filed Date: 3/4/21.

Accession Number: 20210304-5191.

Comments Due: 5 p.m. ET 3/25/21.

Docket Numbers: ER21-1272-001.

Applicants: Mississippi Power Company.

Description: Tariff Amendment: Errata to Rabun Gap Enhanced Reliability Upgrade Construction Agreement Filing to be effective 2/23/2021.

Filed Date: 3/4/21.

Accession Number: 20210304-5192.

Comments Due: 5 p.m. ET 3/25/21.

Docket Numbers: ER21-1274-000.

Applicants: Midcontinent Independent System Operator, Inc., American Transmission Company LLC.

Description: § 205(d) Rate Filing: 2021-03-05 SA 2771 ATC-Cloverland 1st Rev CFA to be effective 5/5/2021.

Filed Date: 3/5/21.

Accession Number: 20210305-5023.

Comments Due: 5 p.m. ET 3/26/21.

Docket Numbers: ER21-1275-000.

Applicants: Midcontinent Independent System Operator, Inc., American Transmission Company LLC.

Description: § 205(d) Rate Filing: 2021-03-05 SA 2774 ATC-City of Cedarburg 1st Rev CFA to be effective 5/5/2021.

Filed Date: 3/5/21.

Accession Number: 20210305-5026.

Comments Due: 5 p.m. ET 3/26/21.

Docket Numbers: ER21-1276-000.

Applicants: Midcontinent Independent System Operator, Inc., American Transmission Company LLC.

Description: § 205(d) Rate Filing: 2021-03-05_SA 2793 ATC-City of Eagle River 1st Rev CFA to be effective 5/5/2021.

Filed Date: 3/5/21.

Accession Number: 20210305-5032.

Comments Due: 5 p.m. ET 3/26/21.

Docket Numbers: ER21-1277-000.

Applicants: Midcontinent Independent System Operator, Inc., American Transmission Company LLC.

Description: § 205(d) Rate Filing: 2021-03-05_SA 2794 ATC-City of Gladstone 1st Rev CFA to be effective 5/5/2021.

Filed Date: 3/5/21.

Accession Number: 20210305-5033.

Comments Due: 5 p.m. ET 3/26/21.

Docket Numbers: ER21-1278-000.

Applicants: ISO New England Inc., New England Power Pool Participants Committee.

Description: § 205(d) Rate Filing: ISO-NE and NEPOOL; Revisions to NYISO Coordination Agreement to be effective 5/4/2021.

Filed Date: 3/5/21.

Accession Number: 20210305-5076.

Comments Due: 5 p.m. ET 3/26/21.

Docket Numbers: ER21-1279-000.

Applicants: Southern California Edison Company.

Description: Tariff Cancellation: Cancel WAPA 161-KV Interconnection and Operation RS 482 GAC028 to be effective 5/5/2021.

Filed Date: 3/5/21.

Accession Number: 20210305-5110.

Comments Due: 5 p.m. ET 3/26/21.

Docket Numbers: ER21-1280-000.

Applicants: Southern California Edison Company.

Description: § 205(d) Rate Filing: SCE submits New TO Tariff Appendix XIV, Morongo Transmission WOD Formula Rate to be effective 5/5/2021.

Filed Date: 3/5/21.

Accession Number: 20210305-5131.

Comments Due: 5 p.m. ET 3/26/21.

Docket Numbers: ER21-1281-000.

Applicants: Arkansas Electric Cooperative Corporation.

Description: Annual Informational Attachment O filing of Arkansas Electric Cooperative Corporation.

Filed Date: 3/5/21.

Accession Number: 20210305-5145.

Comments Due: 5 p.m. ET 3/26/21.

Docket Numbers: ER21-1282-000.

Applicants: Arkansas Electric Cooperative Corporation.

Description: Annual Informational Attachment H filing of Arkansas Electric Cooperative Corporation.

Filed Date: 3/5/21.

Accession Number: 20210305-5147.

Comments Due: 5 p.m. ET 3/26/21.

Docket Numbers: ER21-1283-000.

Applicants: New York Independent System Operator, Inc., Niagara Mohawk Power Corporation.

Description: § 205(d) Rate Filing: 205: Joint TPIA among NYISO, NMPC and Transco, SA 2599 to be effective 2/19/2021.

Filed Date: 3/5/21.

Accession Number: 20210305-5152.

Comments Due: 5 p.m. ET 3/26/21.

Docket Numbers: ER21-1284-000.

Applicants: New York State Electric & Gas Corporation.

Description: § 205(d) Rate Filing: Revisions to 2020 Facilities Agreement Update to be effective 3/6/2021.

Filed Date: 3/5/21.

Accession Number: 20210305-5183.

Comments Due: 5 p.m. ET 3/26/21.

Docket Numbers: ER21-1285-000.

Applicants: NSTAR Electric Company.

Description: § 205(d) Rate Filing: Design and Engineering Agreement ? Vineyard Wind LLC to be effective 3/6/2021.

Filed Date: 3/5/21.

Accession Number: 20210305-5196.

Comments Due: 5 p.m. ET 3/26/21.

Docket Numbers: ER21-1286-000.

Applicants: New York Independent System Operator, Inc.

Description: § 205(d) Rate Filing: 205: NYISO ISO-NE Coordination Agreement to be effective 5/5/2021.

Filed Date: 3/5/21.

Accession Number: 20210305-5197.

Comments Due: 5 p.m. ET 3/26/21.

Docket Numbers: ER21-1287-000.

Applicants: Public Service Company of Colorado.

Description: § 205(d) Rate Filing: 2021-03-05_OATT Gen Mod & Replcmt Proc to be effective 5/5/2021.

Filed Date: 3/5/21.

Accession Number: 20210305-5213.

Comments Due: 5 p.m. ET 3/26/21.

Docket Numbers: ER21-1288-000.

Applicants: California Independent System Operator Corporation.

Description: § 205(d) Rate Filing: 2021-03-05 Transmission Control Agreement Amendment to Add Morongo Transmission to be effective 5/6/2021.

Filed Date: 3/5/21.

Accession Number: 20210305-5246.

Comments Due: 5 p.m. ET 3/26/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 5, 2021.
Kimberly D. Bose,
Secretary.

[FR Doc. 2021-05069 Filed 3-10-21; 8:45 am]

BILLING CODE 6717-01-P